DEPARTMENT OF COMMERCE

National Oceanic and Atmospheric Administration

RIN: 0648-XE76

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held January 28, 2008 through January 31, 2008.

ADDRESSES: The meetings will be held at the Radisson Hotel & Conference Center, 12600 Roosevelt Blvd., St. Petersburg, FL 33716.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, January 30, 2008

11 a.m. - The Council meeting will begin with a review of the agenda and minutes.

11:15 a.m. - 11:30 a.m., the Council will appoint Council Committees.

1 p.m. - 1:30 p.m., NMFS will present the National Bycatch Report.

1:30 p.m. - 4:30 p.m., the Council will receive public testimony on: (1) exempted fishing permits (EFPs), if any; (2) Reef Fish Amendment 30A; (3) Generic Aquaculture Amendment; and (4) Spiny Lobster Scoping Document.

4:30 p.m. - 5:30 p.m., an Open Public Comment Period regarding any fishery issue of concern will be held. People wishing to speak before the Council should complete a public comment card prior to the comment period.

5:30 - 6 p.m., a CLOSED SESSION on Personnel will be held.

Thursday, January 31, 2008

The Council will review and discuss reports from the previous two days' committee meetings as follows:

8:30 a.m. - 10:30 a.m. - Reef Fish Management;

10:30 a.m. - 10:45 a.m. - Joint Reef Fish/Mackerel/Red Drum;

10:45 a.m. - 11 a.m. - Spiny Lobster/Stone Crab Management;

11 a.m. - 11:15 a.m. - Shrimp Management;

11:15 a.m. - 11:30 a.m. - Budget/Personnel;

11:30 a.m. - 11:45 a.m. - Red Drum Management;

11:45 a.m. - 12 p.m. - Marine Reserves;

12 p.m. - 12:30 p.m. - Administrative Policy;

12:30 p.m. - 12:45 p.m. - Mackerel Management.

12:45 p.m. - 1:15 p.m. - The Council will discuss Other Business items. The Council will conclude its meeting at 1:15 p.m.

Committees

Monday, January 28, 2008

12 p.m. - 5:30 p.m. - The Reef Fish Management Committee will meet to discuss the Options Paper for Grouper/Tilefish individual fishing quota (IFQ); Reef Fish Amendment 30A; Update on Socioeconomic Panel (SEP) Grouper Allocation Recommendations; Public Hearing Draft of Reef Fish Amendment 30B; and Report of Ad Hoc Recreational Red Snapper AP.

- Informal question and answer session on Draft Aquaculture Amendment.

Tuesday, January 29, 2008

8:30 a.m. - 12 p.m. - The Reef Fish Management Committee will continue to meet.

1:30 p.m. - 2 p.m. - The Shrimp Management Committee will meet to discuss the 2008 Cooperative Texas Closure and an update of the 2007 Vessel Effort.

2 p.m. - 2:45 p.m. - The Joint Reef Fish/Mackerel/Red Drum Management Committee will meet to discuss the Generic Aquaculture Amendment.

2:45 p.m. - 3:30 p.m. - The Marine Reserve Committee will hear an update on the National Marine Sanctuary Program's Islands in the Stream Concept.

3:30 p.m. - 4 p.m. - The Red Drum Management Committee will meet to discuss the response by Southeast Fishery Science Center (SEFSC) on the potential for an experimental harvest of red drum from the exclusive economic zone (EEZ).

4 p.m. - 4:30 p.m. - The Spiny Lobster/Stone Crab Management Committee will discuss a Generic Scoping Document for an International Minimum Size Limit.

4:30 p.m. - 5:30 p.m. - The Budget/Personnel Committee will review the Status of the 2007 Funding; the 2008 proposed Council Operational Budget; the Statement of Organization Practices and Procedures (SOPPs) provisions for Leave Without Pay; and have a CLOSED SESSION to discuss Personnel.

Wednesday, January 30, 2008

8 a.m. - 10 a.m. - The Administrative Policy Committee will discuss NMFS Guidelines for Annual Catch Limits (ACL) and Accountability Measures (AM) (if available); a staff ACL/AM Discussion Paper; and the development of an Outreach and Education Committee.

10 a.m. - 11 a.m. - The Mackerel Management Committee will discuss the Terms of Reference for a SEDAR Assessment of king mackerel.

Although other non-emergency issues not on the agendas may come before the Council and Committees for discussion, in accordance with the Magnuson-Stevens Fishery Conservation and Management Act (Magnsuon-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: December 27, 2007.
Tracey L. Thompson,
Acting Director, Office of Sustainable Fisheries, National Marine Fisheries Service.

[FR Doc. E7-25475 Filed 12-31-07; 8:45 am]

BILLING CODE 3510-22-S